DEPARTMENT OF COMMERCE

International Trade Administration

[A-485-805]

Certain Small Diameter Carbon and Alloy Seamless Standard, Line, and Pressure Pipe From Romania: Extension of the Time Limit for the Preliminary Results of Antidumping Duty Administrative Review

AGENCY: Import Administration, International Trade Administration, Department of Commerce.

EFFECTIVE DATE: March 31, 2004.

FOR FURTHER INFORMATION CONTACT: Charles Riggle at (202) 482-0650 or Martin Claessens at (202) 482-5451, Office of AD/CVD Enforcement 5, Group II, Import Administration, International Trade Administration, U.S. Department of Commerce, 14th Street and Constitution Avenue, NW, Washington, DC 20230.

Time Limits:

Statutory Time Limits

Section 751(a)(3)(A) of the Tariff Act of 1930, as amended (the Act), requires the Department of Commerce (the Department) to complete the preliminary results of an administrative review within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested, and for the final results to 180 days (or 300 days if the Department does not extend the time limit for the preliminary results) from the date of publication of the preliminary results.

Background

On August 1, 2003, the Department published a notice of opportunity to request an administrative review of this order. See Antidumping or Countervailing Duty Order, Finding, or Suspended Investigation; Opportunity to Request Administrative Review, 68 FR 45218 (August 1, 2003). On August 29, 2003, in accordance with 19 CFR 351.213(b)(2), S.C. Silcotub S.A. (Silcotub), a Romanian producer/exporter of subject merchandise, requested a review. In addition, in accordance with 19 CFR 351.222(e), Silcotub requested that the Department revoke the order with regard to Silcotub, pursuant to 19 CFR 351.222(b). On September 2, 2003, United States Steel Corporation, a domestic interested party, requested reviews of Silcotub and S.C. Petrotub S.A., producers/exporters of certain small diameter carbon and alloy seamless, standard line and pressure pipe from Romania.

On September 30, 2003, the Department published a notice of initiation of administrative review of the antidumping duty order on certain small diameter carbon and alloy seamless standard, line and pressure pipe from Romania, covering the period August 1, 2002 through July 31, 2003 (68 FR 56262). The preliminary results are currently due no later than May 3, 2004.

Extension of Time Limit for Preliminary Results of Review

We determine that it is not practicable to complete the preliminary results of this review within the original time limit due to the complex nature of this review. Specifically, on March 10, 2003, the Department reclassified Romania as a market economy effective January 1, 2003, for the purposes of antidumping and countervailing duty proceedings. Because this review covers the period August 1, 2002 through July 31, 2003, the Department has determined to conduct a simultaneous split review, applying its non-market economy methodology to the period August 1 through December 31, 2003, and its market economy methodology from January 1 through July 31, 2003. Accordingly, the Department is analyzing two separate sets of questionnaire responses and calculating dumping margins for two separate periods and expects to calculate a single, weighted-average margin for the full 12-month review period.

Therefore, the Department is extending the time limit for completion of the preliminary results by 90 days, until August 2, 2004. We intend to issue the final results no later than 120 days after publication of the preliminary results notice.

Dated: March 25, 2004.
Holly A. Kuga,
Acting Deputy Assistant Secretary for AD/CVD Enforcement Group II.

[FR Doc. 04-7220 Filed 3-30-04; 8:45 am]

BILLING CODE 3510-DS-S